DEPARTMENT OF TRANSPORTATION

Federal Highway Administration

23 CFR Part 625

[FHWA Docket No. FHWA-2001-10077]

RIN 2125-AE89

Design Standards for Highways

AGENCY: Federal Highway Administration (FHWA), DOT.

ACTION: Final rule.

SUMMARY: The FHWA revises its policy on the design standards that apply to highway construction and reconstruction projects on the National Highway System (NHS). The previous standards were the 1994 version of the American Association of State Highway and Transportation Officials' (AASHTO) publication, “A Policy on Geometric Design of Highways and Streets.” A 2001 revision of this publication has replaced the 1994 version and FHWA adopts this new version as its policy on design standards for highway construction and reconstruction projects on the NHS.

DATES: This final rule is effective March 14, 2002. The incorporation by reference of the publication listed in this regulation is approved by the Director of the Office of the Federal Register as of March 14, 2002.

FOR FURTHER INFORMATION CONTACT: For technical information: Mr. Seppo Sillan, Office of Program Administration (HIPA), (202) 366-1327. For legal information: Mr. Harold Aikens, Office of the Chief Counsel (HCC-40), (202) 366-1373, Federal Highway Administration, 400 Seventh Street, SW., Washington, DC 20590-0001. Office hours are from 8 a.m. to 4:30 p.m., e.t., Monday through Friday, except Federal holidays.

SUPPLEMENTARY INFORMATION: This final rule is based on the FHWA's notice of proposed rulemaking (NPRM), FHWA Docket No. FHWA-2001-10077, Design Standards for Highways, at 66 FR 48103 (September 18, 2001). All comments received in response to the NPRM have been considered in adopting this final rule. For discussion of comments, see the section entitled “Discussion of Comments” later in this final rule.

Electronic Access and Filing

This document, the NPRM, and all comments received may be viewed online through the Document Management System (DMS) at: http://dms.dot.gov. The DMS is available 24 hours each day, 365 days each year. Electronic submission and retrieval help and guidelines are available under the help section of the web site.

An electronic copy of this document may also be downloaded by using a computer, modem and suitable communications software from the Government Printing Office's Electronic Bulletin Board Service at (202) 512-1661. Internet users may also reach the Office of the Federal Register's home page at: http://www.nara.gov/fedreg and the Government Printing Office's Web page at: http://www.access.gpo.gov.

The current design standards are on file at the Office of the Federal Register in Washington, DC, and are available for inspection and copying at the FHWA Washington, DC, Headquarters and field offices as prescribed in 49 CFR part 7. Copies of the current AASHTO publications are also available for purchase from AASHTO by telephone (800) 231-3475, facsimile (800) 525-5562, mail AASHTO, P.O. Box 96716, Washington, DC 20090-6716 or at its Web site at www.transportation.org.

Background

The standards, policies, and standard specifications that have been approved by the FHWA for application on all construction and reconstruction projects on the NHS are incorporated by reference in 23 CFR part 625. The current document specified in § 625.4(a)(1) is the 1994 edition of “A Policy on Geometric Design of Highways and Streets” (Policy).¹ The AASHTO recently revised the Policy and issued the 2001 edition which the FHWA is adopting as its policy for design standards for all construction and reconstruction projects on the NHS. The primary reason for development of the new document was to update the previous Policy to incorporate the latest design criteria. See “Summary of Changes” below for a description of the changes made in the 2001 edition.

¹ A Policy on Geometic Design of Highways and Streets, 1994, is available from AASHTO by telephone (800) 321-3475, facsimile (800) 525-5562, mail AASHTO, P.O. Box 96716, Washington, DC 20090-6716 or at their Web site at www.transportation.org.

The AASHTO is an organization which represents 52 State highway and transportation agencies (including the District of Columbia and Puerto Rico). Its members consist of the duly constituted heads and other chief officials of those agencies. The Secretary of Transportation is an ex officio member, and U.S. DOT officials participate in various AASHTO activities as nonvoting representatives. Among other functions, the AASHTO develops and issues standards, specifications, policies, guides and related materials for use by the States for highway projects. Many of the standards, policies, and standard specifications approved by the FHWA and incorporated into 23 CFR part 625 were developed and issued by the AASHTO. Revisions to such documents of the AASHTO are independently reviewed and adopted by the FHWA before they are applied to NHS projects.

The National Highway System (NHS) was established by the National Highway System Designation Act of 1995, Public Law 104-59, Nov. 28, 1995, 109 Stat. 568. The NHS includes the Interstate System and other principal arterials serving major travel destinations and transportation needs, connectors to major transportation terminals, the Strategic Highway Network and connectors, and high priority corridors identified by law.

Generally, the criteria in the functional chapters of the Policy on local roads and streets and collectors (Chapters 5 and 6) are not applicable to projects on the NHS. However, if highway segments functionally classified as less than principal arterials are incorporated in the NHS by virtue of being Strategic Highway Network Connectors or Intermodal Connectors, the standards used may be those appropriate for the functional classification of the segment, taking into account the type of traffic using the segment.

Although the standards contained in the Policy apply to the Interstate System, additional guidance applicable to the design of highways on the Interstate System is included in another AASHTO publication, “A Policy on Design Standards—Interstate System.” ² The latest edition of this publication is dated July 1991; no revisions to this document are proposed at this time.

² A Policy on Design Standards—Interstate System, 1991, is available from AASHTO (see footnote 1).

Summary of Changes

The changes in the 2001 Policy were developed as the result of formal research projects and information contributed by the AASHTO and the FHWA staff experts. The changes included such items as the criteria for stopping sight distance, height of eye and height of object for measuring sight distance, transition design controls, and intersection sight distance. The NPRM cited earlier in this section should be consulted for a more complete description of the changes.

Discussion of Comments

Interested persons were invited to participate in the development of this final rule by submitting written or electronic comments on the NPRM to FHWA Docket No. FHWA-2001-10077 on or before November 19, 2001. The FHWA received two comments to the docket. Both comments were from State DOT's. One commenter feels that “A Policy on Design Standards—Interstate System” (Interstate Policy) should be eliminated so that the engineer/designer only has to refer to one document. As mentioned under the caption SUPPLEMENTARY INFORMATION although the standards contained in the Policy apply to the Interstate System, additional standards applicable to the design of highways on the Interstate System are included separately in the Interstate Policy. The FHWA believes these additional standards are necessary and that the Interstate Policy cannot be eliminated. However, in the future, the two publications could be merged by including the standards in the Interstate Policy under a separate heading or chapter in the Policy. Both the FHWA and this commenter will be a party to future revisions of the Policy so inclusion of the Interstate Policy can be addressed at that time. The other commenter agreed with the changes and recommended that the FHWA adopt the new Policy.

Rulemaking Analyses and Notices

In response to the FHWA solicitation of public comment on this action, we received two comments. These comments have been considered in evaluating whether any change to this action is needed. The FHWA determines that no change is required.

Executive Order 12866 (Regulatory Planning and Review) and DOT Regulatory Policies and Procedures

The FHWA has determined that this action is not a significant regulatory action within the meaning of Executive Order 12866 or significant within the meaning of the U.S. Department of Transportation regulatory policies and procedures. The economic impact of this rulemaking will be minimal. Although the new Policy has been revised to incorporate the latest research, the basic criteria remain essentially the same. These changes will not adversely affect, in a material way, any sector of the economy. In addition, these changes will not interfere with any action taken or planned by another agency and will not materially alter the budgetary impact of any entitlements, grants, user fees, or loan programs. Consequently, a full regulatory evaluation is not required.

Regulatory Flexibility Act

In compliance with the Regulatory Flexibility Act (5 U.S.C. 601-612), the FHWA has evaluated the effects of this action on small entities and has determined that this action will not have a significant economic impact on a substantial number of small entities. As stated above, although the new Policy has been revised to incorporate the latest research, the basic criteria remain essentially the same. For these reasons, the FHWA certifies that this action will not have a significant economic impact on a substantial number of small entities.

Unfunded Mandates Reform Act of 1995

This rule will not impose unfunded mandates as defined by the Unfunded Mandates Reform Act of 1995 (Public Law 104-4, March 22, 1995, 109 Stat. 48). This rule will not result in the expenditure by State, local, and tribal governments, in the aggregate, or by the private sector, of $100 million or more in any one year (2 U.S.C. 1531 et seq).

Executive Order 12630 (Taking of Private Property)

This rule will not effect a taking of private property or otherwise have taking implications under Executive Order 12630, Governmental Actions and Interface with Constitutionally Protected Property Rights.

Executive Order 12988 (Civil Justice Reform)

This action meets applicable standards in sections 3(a) and 3(b)(2) of Executive Order 12988, Civil Justice Reform, to minimize litigation, eliminate ambiguity, and reduce burden.

Executive Order 13045 (Protection of Children)

We have analyzed this action under Executive Order 13045, Protection of Children from Environmental Health Risks and Safety Risks. This rule is not an economically significant rule and does not concern an environmental risk to health or safety that may disproportionately affect children.

Executive Order 13132 (Federalism)

This action has been analyzed in accordance with the principles and criteria contained in Executive Order 13132, dated August 4, 1999, and the FHWA has determined that this action does not have sufficient federalism implications to warrant the preparation of a Federalism assessment. The FHWA has also determined that this action will not preempt any State law or State regulation or affect the States' ability to discharge traditional State governmental functions.

Executive Order 12372 (Intergovernmental Review)

Catalog of Federal Domestic Assistance Program Number 20.205, Highway Planning and Construction. The regulations implementing Executive Order 12372 regarding intergovernmental consultation on Federal programs and activities apply to this program.

Paperwork Reduction Act

Under the Paperwork Reduction Act of 1995 (PRA) (44 U.S.C. 3501, et seq.), Federal agencies must obtain approval from the Office of Management and Budget (OMB) for each collection of information they conduct, sponsor, or require through regulations. The FHWA has determined that this action does not contain collection of information requirements for the purposes of the PRA.

National Environmental Policy Act

The FHWA has analyzed this action for the purpose of the National Environmental Policy Act of 1969 (42 U.S.C. 4321 et seq.) and has determined that this action will not have any effect on the quality of the environment.

Executive Order 13175 (Tribal Consultation)

The FHWA has analyzed this action under Executive Order 13175, dated November 6, 2000, and believes that it will not have substantial direct effects on one or more Indian tribes; will not impose substantial direct compliance costs on Indian tribal governments; and will not preempt tribal law. Therefore, a tribal summary impact statement is not required.

Executive Order 13211 (Energy Effects)

We have analyzed this rule under Executive Order 13211, Actions Concerning Regulations That Significantly Affect Energy Supply, Distribution, or Use. We have determined that it is not a significant energy action under that order because it is not a significant regulatory action under Executive Order 12866 and is not likely to have a significant adverse effect on the supply, distribution, or use of energy. Therefore, a Statement of Energy Effects under Executive Order 13211 is not required.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 625

Design standards, Grant programs—transportation, Highways and roads, Incorporation by reference.

Issued on: February 4, 2002.
Mary E. Peters,
Federal Highway Administrator.

In consideration of the foregoing, the FHWA is amending title 23, Code of Federal Regulations, part 625, as set forth below:

PART 625—DESIGN STANDARDS FOR HIGHWAYS

1.The authority citation for part 625 continues to read as follows:

Authority: 23 U.S.C. 109, 315, and 402; Sec. 1073 of Pub. L. 102-240, 105 Stat. 1914, 2012; 49 CFR 1.48(b) and (n).

2. In § 625.4, revise paragraph (a)(1) to read as follows:

§ 625.4 Standards, policies, and standard specifications.

* * * * *

(a) * * * (1) A Policy on Geometric Design of Highways and Streets, AASHTO 2001. [See § 625.4(d)(1)]

* * * * *

[FR Doc. 02-3217 Filed 2-11-02; 8:45 am]

BILLING CODE 4910-22-P